DEPARTMENT OF ENERGY

Federal Energy Regulatory Commission

[Docket No. CP06-34-001]

Transcontinental Gas Pipe Line Corporation; Notice of Filing

October 25, 2006.

Take notice that on October 20, 2006, Transcontinental Gas Pipe Line Corporation (Transco), Post Office Box 1396, Houston, Texas 77251, filed an abbreviated application, pursuant to section 7(c) of the Natural Gas Act (NGA) and Part 157 of the Commission's Rules and Regulations to amend its Leidy to Long Island certificate issued on May 18, 2006. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Transco requests authorization to include in the scope of the Leidy to Long Island Expansion Project three new gas heaters and appurtenant facilities at its existing Long Beach meter and regulator station, and to adjust the cost of facilities and rates. The total cost adjustment, including $4.2 million for the heaters and appurtenant facilities, is an increase of $5.3 million.

Any questions regarding the application are to be directed to Scott Turkington, Director, Rates and Regulatory, Transcontinental Gas Pipe Line Corporation, P.O. Box 1396, Houston, Texas 77251-1396; phone number (713) 215-3391.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: 5 p.m. Eastern Time at November 20, 2006.

Magalie R. Salas,
Secretary.

[FR Doc. E6-18345 Filed 10-31-06; 8:45 am]

BILLING CODE 6717-01-P